ENVIRONMENTAL PROTECTION AGENCY

[EPA-HQ-OPPT-2013-0229; FRL-9386-6]

Certain New Chemicals; Receipt and Status Information

AGENCY: Environmental Protection Agency (EPA).

ACTION: Notice.

SUMMARY: The Toxic Substances Control Act (TSCA) requires any person who intends to manufacture (defined by statute to include import) a new chemical (i.e., a chemical not on the TSCA Chemical Substances Inventory (TSCA Inventory)) to notify EPA and comply with the statutory provisions pertaining to the manufacture of new chemicals. In addition under TSCA, EPA is required to publish in the Federal Register a notice of receipt of a premanufacture notice (PMN) or an application for a test marketing exemption (TME), and to publish in the Federal Register periodic status reports on the new chemicals under review and the receipt of notices of commencement (NOC) to manufacture those chemicals. This document, which covers the period from March 11, 2013 to April 19, 2013, and provides the required notice and status report, consists of the PMNs pending or expired, and the NOC to manufacture a new chemical that the Agency has received under TSCA section 5 during this time period.

DATES: Comments identified by the specific PMN number or TME number, must be received on or before July 15, 2013.

ADDRESSES: Submit your comments, identified by docket identification (ID) number EPA-HQ-OPPT-2013-0229, and the specific PMN number or TME number for the chemical related to your comment, by one of the following methods:

• Federal eRulemaking Portal: http://www.regulations.gov. Follow the online instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave. NW., Washington, DC. The DCO is open from 8 a.m. to 4 p.m., Monday through Friday, excluding legal holidays. The telephone number for the DCO is (202) 564-8930. Such deliveries are only accepted during the DCO's normal hours of operation, and special arrangements should be made for deliveries of boxed information.

Instructions: EPA's policy is that all comments received will be included in the docket without change and may be made available online at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management Division (7407M), Office of Pollution Prevention and Toxics, Environmental Protection Agency, 1200 Pennsylvania Ave. NW., Washington, DC 20460-0001; telephone number: (202) 564-8951; fax number: (202) 564-8955; email address: mudd.bernice@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA taking this action?

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals. This status report, which covers the period from March 11, 2013 to April 19, 2013, consists of the PMNs pending or expired, and the NOCs to manufacture a new chemical that the Agency has received under TSCA section 5 during this time period.

III. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—58 PMNs Received From 3/11/13 to 4/19/13
Case No. | Received date | Projected notice end date | Manufacturer/ importer | Use | Chemical
P-13-0338 | 3/11/2013 | 6/8/2013 | CBI | (G) Polymer intermediate for adhesive manufacture | (G) Diphenylmethane diisocyanate prepolymer.
P-13-0339 | 3/12/2013 | 6/9/2013 | CBI | (G) Destructive use | (G) Organometallics, reaction products with silica, halogenated.
P-13-0340 | 3/12/2013 | 6/9/2013 | Pavco, Inc | (S) Corrosion resistant coating for electrodeposited zinc | (S) 1,2,3-Propanetricarboxylicacid, 2-hydroxy-, chromium(3+) salt (1:?).
P-13-0341 | 3/12/2013 | 6/9/2013 | CBI | (G) Renewable chemical intermediate | (G) Alkenoic acid ester.
P-13-0342 | 3/14/2013 | 6/11/2013 | Henkel Corporation | (S) Site limited polymerization catalyst used at 0.005% in polmerizations then removed from final polymer before formulation | (S) 1,2-Ethanediamine, N,N-bis[2-(dimethylamino)ethyl]-N',N'-dimethyl- (9ci).
P-13-0343 | 3/14/2013 | 6/11/2013 | UBE America, Inc | (G) Resin ingredient | (S) [1,1'-Biphenyl]-3,3',4,4'-tetracarboxylic acid.
P-13-0344 | 3/15/2013 | 6/12/2013 | CBI | (G) Construction materials additive | (G) Substituted carboxylic acid, polymer with disubstituted alkenyl disubstituted 2-propenoic acid, alkyl, alkyl ester, polymer with 2,2-bis[[(substituted-2-alkenyl)oxy]methyl]-substituted alkanediyl di-2-alkenoate and 2-(hydroxyalkyl)-2-[[(substituted 2-alkenyl)oxy]methyl]-1,3-propanediyl di-2-alkenoate.
P-13-0345 | 3/19/2013 | 6/16/2013 | CBI | (G) Solvent | (G) Polyfluoropolychloroalkene.
P-13-0346 | 3/20/2013 | 6/17/2013 | CBI | (G) The notified substance will be encapsulated in a polymer matrix and used as part of a fragrance slurry in consumer products, such as fabric care and cleaning products | (G) Carbonic acid, dialkyl ester.
P-13-0347 | 3/20/2013 | 6/17/2013 | CBI | (G) Chemical intermediate | (G) Aromatic sulfonamide polyether.
P-13-0348 | 3/20/2013 | 6/17/2013 | CBI | (G) Reactant | (G) Polyether substituted azo colorant.
P-13-0349 | 3/20/2013 | 6/17/2013 | CBI | (G) Coloring agent | (G) Polyether substituted azo colorant.
P-13-0350 | 3/21/2013 | 6/18/2013 | CBI | (G) Destructive use | (G) Organometallic polymerization catalyst.
P-13-0351 | 3/21/2013 | 6/18/2013 | Tire Recycling & Processing, LLC | (S) Feed stock | (S) Tires, waste, pyrolyzed, carbon black fraction.
P-13-0352 | 3/21/2013 | 6/18/2013 | Henkel Corporation | (S) Component of adhesive used for panel lamination and other structural assemblies | (G) Acrylic modified polyether-ester polyurethane prepolymer.
P-13-0353 | 3/25/2013 | 6/22/2013 | IBM East Fishkill | (S) Semiconductor chip sludge, slimes as an additive in cement manufacturing | (S) Slimes and sludges, semiconductor chip manufacturer chemical mechanical planarization process, wastewater treatment.
P-13-0354 | 3/26/2013 | 6/23/2013 | CBI | (G) Adhesion promoter, open, non-dispersive use | (G) Substituted acrylic monomer.
P-13-0355 | 3/26/2013 | 6/23/2013 | Mitsubishi Gas Chemical America, Inc | (G) Polymeric coating | (S) Phenol, 2,6-dimethyl-, homopolymer, ether with 2,2',3,3',5,5'-hexamethyl[1,1'-biphenyl]-4,4'-diol (2:1), bis[(ethenylphenyl)methyl] ether.
P-13-0356 | 3/27/2013 | 6/24/2013 | CBI | (G) Thermoplastic urethane film | (G) Aliphatic diol, polymer with polymeric diol, aliphatic diisocyanate and aliphatic diol.
P-13-0357 | 3/28/2013 | 6/25/2013 | CBI | (G) Electrolyte for lithium batteries | (G) Alkene carbonate derivative.
P-13-0358 | 3/28/2013 | 6/25/2013 | Reichhold, Inc | (S) Intermediate for coconut oil alkyd resins | (G) Vegetable oil esters.
P-13-0359 | 3/28/2013 | 6/25/2013 | H.B. Fuller Company | (G) Industrial adhesive | (G) 1,3-Isobenzofurandione, polymer with alkanendiol, 1,6-hexanediol,.alpha.-hydro-.omega.-hydroxypoly[oxy(methyl-1,2-ethanediyl)],1,1'-methylenebis[4-isocyanatobenzene] and poly(oxy-alkanediyl) glyceryl ether.
P-13-0360 | 3/28/2013 | 6/25/2013 | H.B. Fuller Company | (G) Industrial adhesive | (G) Alkane acid, polymer with alkanendiol, 1,6-hexanediol,.alpha.-hydro-.omega.-hydroxypoly(oxy-1,4-butanediyl), 1,3-isobenzofurandione, 1,1'-methylenebis[4-isocyanatobenzene] and poly(oxy-alkanediyl) glyceryl ether.
P-13-0361 | 3/28/2013 | 6/25/2013 | H.B. Fuller Company | (G) Industrial adhesive | (G) Hexanedioic acid, polymer with alkanendiol, 1,2-ethanediol, 1,6-hexanediol,.alpha.-hydro-.omega.-hydroxypoly[oxy(methyl-1,2-ethanediyl)], 1,1'-methylenebis[4-isocyanatobenzene].
P-13-0362 | 3/28/2013 | 6/25/2013 | H.B. Fuller Company | (G) Industrial adhesive | (G) 1,3-Benzenedicarboxylic acid, polymer with 1,4-dimethyl 1,4-benzenedicarboxylate, alkanediol, alkane acid, 1,2-ethanediol, hexanedioic acid, 1,6-hexanediol, alkyldiol ester, 1,3-isobenzofurandione, 1,1'-methylenebis[4-isocyanatobenzene], 2-methyloxirane, 2-oxepanone and 2,2'-oxybis[ethanol].
P-13-0363 | 3/28/2013 | 6/25/2013 | H.B. Fuller Company | (G) Industrial adhesive | (G) Alkane acid, polymer with alkanediol, hexanedioic acid, 1,6-hexanediol, .alpha.-hydro-.omega.-hydroxypoly[oxy(methyl-1,2-ethanediyl)], 1,1'-methylenebis[4-isocyanatobenzene], 2-oxepanone, and poly(oxy-alkanediyl) glyceryl ether.
P-13-0364 | 3/28/2013 | 6/25/2013 | H.B. Fuller Company | (G) Industrial adhesive | (G) Alkane acid, polymer with 1,6-hexanediol, .alpha.-hydro-.omega.-hydroxypoly(oxy-1,4-butanediyl), 1,1'-methylenebis[4-isocyanatobenzene], and poly(oxy-alkanediyl) glyceryl ether.
P-13-0365 | 3/28/2013 | 6/25/2013 | CBI | (G) Adhesive component | (G) MDI modified polyalkene glycols.
P-13-0366 | 3/31/2013 | 6/28/2013 | CBI | (G) Surfactant or emulsifier | (G) Glycolipid.
P-13-0367 | 4/1/2013 | 6/29/2013 | CBI | (S) Scale inhibitor in oilfield applications | (G) Carboxylated phosphonated allyl sulphonate polymer.
P-13-0368 | 4/1/2013 | 6/29/2013 | The Lewis Chemical Company | (S) Corrosion inhibitor for oilfield applications | (S) Polyoxyethylene oleyl amine.
P-13-0369 | 4/3/2013 | 7/1/2013 | CBI | (G) A solids conglomeration additive for down-hole treatment of oil and gas wells to prevent the undesirable production of solids. e.g., sand, proppant | (G) Polyphosphoric acids, esters with substituted amines, compounds with alkyl pyridines.
P-13-0370 | 4/4/2013 | 7/2/2013 | CBI | (G) Surfactant for floor polish and coatings | (G) Fluorosurfactant.
P-13-0371 | 4/2/2013 | 6/30/2013 | CBI | (G) Chemical intermediate | (G) Substituted phenylsulfonamide compound.
P-13-0372 | 4/2/2013 | 6/30/2013 | CBI | (G) Polymer | (G) Polyether polyurethane.
P-13-0373 | 4/5/2013 | 7/3/2013 | CBI | (S) Battery material | (G) Mixed metal oxide.
P-13-0374 | 4/5/2013 | 7/3/2013 | Dow Chemical U.S.A. | (G) Chemical intermediate | (G) Substituted picolinic acid.
P-13-0375 | 4/5/2013 | 7/3/2013 | International Flavors & Fragrances, Inc | (S) Fragrance ingredient for use in fragrances for soaps, detergents, cleaners and other household products | (S) 6-decenal, (6e)-6-decenal, (6z)-7-decenal, (7e)-7-decenal, (7z)-8-decenal, (8e)-8-decenal, (8z)-
P-13-0376 | 4/8/2013 | 7/6/2013 | CBI | (G) Component | (G) Polyester resin.
P-13-0377 | 4/8/2013 | 7/6/2013 | CBI | (G) Water and oil repellent | (G) Perfluoroalkylethyl methacrylate copolymer.
P-13-0378 | 4/9/2013 | 7/7/2013 | CBI | (S) Polyurethane catalyst | (G) Carboxylic anhydride, polymer with -hydro-hydroxypoly(oxy-1,2-diethanediyl), compound with 2,3,4,6,7,8,9,10-octahydropyrimido-[1,2-a]azepine.
P-13-0379 | 4/9/2013 | 7/7/2013 | CBI | (G) Adhesive and sealant component | (G) Aromatic polyester.
P-13-0380 | 4/9/2013 | 7/7/2013 | CBI | (G) Ultra violet cure industrial coating | (S) 2-Propenoic acid, 2-methyl-, 1,1-dimethylethyl ester, polymer with butyl 2-propenoate, ethenylbenzene and 2-oxiranylmethyl 2-methyl-2-propenoate, 2-propenoate.
P-13-0381 | 4/10/2013 | 7/8/2013 | CBI | (G) Pigment | (G) Pyrrolopyrrol.
P-13-0382 | 4/11/2013 | 7/9/2013 | CBI | (G) Plastics | (G) Castor oil, reaction products with an alcohol amine.
P-13-0383 | 4/11/2013 | 7/9/2013 | CBI | (G) Plastics | (G) Soybean oil, reaction products with an alcohol amine.
P-13-0384 | 4/11/2013 | 7/9/2013 | INEOS Oligomers | (S) Drilling fluid | (G) Tetradecene and C16 olefins and paraffins.
P-13-0385 | 4/11/2013 | 7/9/2013 | CBI | (G) Plastics | (G) Soybean oil, reaction products with an alcohol amine, polymer with a dicarboxylic acid.
P-13-0386 | 4/11/2013 | 7/9/2013 | CBI | (G) Plastics | (G) Soybean oil, reaction products with an alcohol amine and a dicarboxylic acid.
P-13-0387 | 4/11/2013 | 7/9/2013 | CBI | (G) Lubricant additive | (G) Amines, polyethylenepoly-, reaction products with aryl anhydride and succinic monopolyisobutylene derivs.
P-13-0388 | 4/12/2013 | 7/10/2013 | CBI | (S) Plasticizer for PVC molded articles | (G) Hexanedioic acid, polymer with 1,2-butanediol, diesters with alkene reaction products.
P-13-0389 | 4/12/2013 | 7/10/2013 | CBI | (G) Renewable chemical intermediate | (G) Alkenyl ether.
P-13-0390 | 4/17/2013 | 7/15/2013 | Dow Chemical Company | (G) Chemical intermediate | (G) Halogenated, substituted picolinic ester.
P-13-0391 | 4/17/2013 | 7/15/2013 | Dow Chemical Company | (G) Chemical intermediate | (G) Halogenated phenylboronic acid.
P-13-0392 | 4/17/2013 | 7/15/2013 | DIC International (USA) LLC | (G) A new substance for the wood, plastic and automotive paint material | (G) Acrylic acid esters polymer with polyisocyanate.
P-13-0393 | 4/17/2013 | 7/15/2013 | H.B. Fuller Company | (G) Industrial adhesive | (G) 1,3-Benzenedicarboxylic acid, polymer with 1,4-benzenedicarboxylic acid, 1,4-dimethyl 1,4-benzenedicarboxylate, 2,2-dimethyl-1,3-propanediol, dodecanedioic acid, 1,2-ethanediol, hexanedioic acid, 1,6-hexanediol, alkyldiol ester and aromatic isocyanate.
P-13-0394 | 4/18/2013 | 7/16/2013 | CBI | (G) Polymer additive | (G) Hydrogenated terpene phenolic copolymer.
P-13-0395 | 4/18/2013 | 7/16/2013 | Miwon North America, Inc | (S) Resins for industrial coating | (G) Urethane acrylate.

In Table II. of this unit, EPA provides the following information (to the extent that such information is not claimed as CBI) on the NOCs received by EPA during this period: The EPA case number assigned to the NOC, the date the NOC was received by EPA, the projected end date for EPA's review of the NOC, and chemical identity.

Table II—53 NOCs Received From 3/11/13 to 4/19/13
Case No. | Received date | Commencement notice end date | Chemical
J-13-0003 | 4/18/2013 | 4/17/2013 | (G) Saccaromyces cerevisiae modified.
P-01-0697 | 3/18/2013 | 2/19/2013 | (G) Acrylic copolymer.
P-05-0700 | 3/25/2013 | 3/1/2013 | (S) Cyclohexanamine, N-[(diethoxymethylsilyl)methyl]-
P-05-0701 | 4/1/2013 | 3/12/2013 | (G) Sulphonated azo dye.
P-10-0362 | 4/3/2013 | 3/28/2013 | (G) Substituted bis-phenol.
P-11-0240 | 4/9/2013 | 3/19/2013 | (G) Modified epoxy resin.
P-11-0247 | 4/16/2013 | 3/28/2013 | (G) Perfluoroalkylethyl methacrylate copolymer.
P-11-0327 | 3/28/2013 | 3/6/2013 | (S) Distillates (lignocellulosic), C5-40.
P-11-0328 | 3/20/2013 | 3/6/2013 | (S) Parraffin waxes (lignocellulosic), hydrotreated, C5-40-branched, cyclic and linear.
P-11-0329 | 3/20/2013 | 3/6/2013 | (S) Naphtha (lignocellulosic), hydrotreated, C5-12-branched, cyclic and linear.
P-11-0330 | 3/20/2013 | 3/6/2013 | (S) Kerosine (lignocellulosic), hydrotreated, C8-16-branched, cyclic and linear.
P-11-0331 | 3/20/2013 | 3/6/2013 | (S) Distillates (lignocellulosic), hydrotreated, C8-26-branched, cyclic, and linear.
P-11-0332 | 3/20/2013 | 3/6/2013 | (S) Residual oils (lignocellulosic), hydrotreated, C20-40-branched, cyclic and linear.
P-11-0396 | 3/13/2013 | 2/26/2013 | (G) Acrylate copolymer.
P-11-0397 | 3/13/2013 | 2/26/2013 | (G) Acrylate copolymer.
P-11-0479 | 4/10/2013 | 4/3/2013 | (G) Vinylalkoxysilane.
P-11-0550 | 3/14/2013 | 1/15/2013 | (G) N-coco alkyltrimethylene0-, polymers with bisphenol A, epichlorohydrin and amodified aliphatic amine.
P-11-0551 | 3/14/2013 | 1/15/2013 | (G) N-coco alkyltrimethylenedi-, polymer with bisphenol A, epichlorohydrin and modified aliphatic amine.
P-11-0653 | 4/3/2013 | 3/26/2013 | (G) Perfluoroalkylethyl methacrylate copolymer.
P-12-0031 | 4/12/2013 | 3/27/2013 | (G) Modified fluorinated acrylate.
P-12-0042 | 3/21/2013 | 1/24/2013 | (G) Polyurethane aqueous dispersion.
P-12-0080 | 4/12/2013 | 4/8/2013 | (G) Fluoroethylene-vinylether copolymer.
P-12-0117 | 4/3/2013 | 3/21/2013 | (G) Substituted pyridinium salt.
P-12-0145 | 4/8/2013 | 12/18/2012 | (G) Styrene acryl copolymer.
P-12-0256 | 4/9/2013 | 4/6/2013 | (G) Dialkyldithiophosphate salt.
P-12-0380 | 4/17/2013 | 3/21/2013 | (G) Monoazo compound.
P-12-0411 | 4/9/2013 | 3/21/2013 | (G) Alkenedioic acid dialkyl ester, reaction products with diamine alkenoic acid alkyl esters.
P-12-0440 | 3/13/2013 | 2/28/2013 | (G) Phenol capped urethane prepolymer.
P-12-0461 | 3/12/2013 | 2/22/2013 | (S) Hexandioic acid, polymer wih 1,3-diethyl propanediote, oxybis[propanol] and 1,2-propanediol, mono[2-hydroxy-3-[(1-oxoneodecyl)oxy]propyl] ester, 3-oxobutanoate.
P-12-0474 | 4/11/2013 | 4/10/2013 | (G) Ultra violet curable acrylate.
P-12-0484 | 3/27/2013 | 3/8/2013 | (G) Polyester polyol based upon glycerin.
P-12-0530 | 4/12/2013 | 3/18/2013 | (G) Amine acetate.
P-12-0545 | 4/9/2013 | 3/11/2013 | (G) Aromatic amido-amine-modified aliphatic hydrocarbon resin.
P-12-0546 | 4/9/2013 | 3/11/2013 | (G) Aromatic amido-amine-modified aliphatic hydrocarbon resin.
P-12-0551 | 4/9/2013 | 4/3/2013 | (G) Aromatic hydrocarbon mixture.
P-12-0584 | 3/20/2013 | 3/15/2013 | (G) Alkyl phosphonate.
P-13-0013 | 4/12/2013 | 3/26/2013 | (G) Polyurethane polymer.
P-13-0031 | 3/26/2013 | 3/20/2013 | (G) Isocyanate terminated polyester/polyether/mdi polymer.
P-13-0032 | 3/19/2013 | 3/18/2013 | (G) Alkenoic acid, ester with alkylpolyol, polymer with disubsituted alkane.
P-13-0039 | 4/2/2013 | 3/25/2013 | (S) D-glycopyranose, oligomeric, C10-16-alkyl decyl octyl glycosides, 2-hydroxy-3-(trimethylammonio) propyl ethers, chlorides, polymers with 1,3-dichloro-2-propanol.
P-13-0094 | 3/25/2013 | 2/21/2013 | (G) Acrylic ester functionalized polyether polymer.
P-13-0108 | 3/20/2013 | 2/25/2013 | (S) Bromine, manufacturer of, by-products from, distant residues.
P-13-0109 | 4/15/2013 | 3/28/2013 | (S) Alkanes, C24-28, chloro.
P-13-0119 | 4/4/2013 | 3/22/2013 | (S) D-glucitol, 1,3:2,4-bis-o-[(4-ethylphenyl)methylene]-
P-13-0121 | 3/20/2013 | 2/20/2013 | (G) Substituted polymeric aromatic amine azo colorant.
P-13-0137 | 3/20/2013 | 3/4/2013 | (S) Butanedioic acid, 2-(2-octen-1-yl)-
P-13-0170 | 3/27/2013 | 3/19/2013 | (G) Phosphoric acid, mixed esters.
P-13-0174 | 4/2/2013 | 3/24/2013 | (G) Substituted carbomoncycles, polymer with alkyldiol.
P-13-0177 | 3/28/2013 | 3/20/2013 | (G) Polyxiloxane acrylic resin.
P-13-0178 | 4/8/2013 | 3/31/2013 | (S) Cyclopentanol, 2-methyl-5-(1-methylethyl)-, 1-propanoate.
P-13-0179 | 4/16/2013 | 3/26/2013 | (G) Alkyl-substituted thiophosphoric acid triamide.
P-13-0194 | 4/11/2013 | 4/9/2013 | (G) Silylated polyazamide.
P-13-0222 | 4/16/2013 | 4/15/2013 | (G) Synthetic crude oil.

If you are interested in information that is not included in these tables, you may contact EPA as described in Unit II. to access additional non-CBI information that may be available.

List of Subjects

Environmental protection, Chemicals, Hazardous substances, Imports, Notice of commencement, Premanufacturer, Reporting and recordkeeping requirements, Test marketing exemptions.

Dated: June 3, 2013.
Chandler Sirmons,
Acting Director, Information Management Division, Office of Pollution Prevention and Toxics.

[FR Doc. 2013-14196 Filed 6-13-13; 8:45 am]

BILLING CODE 6560-50-P